DEPARTMENT OF TRANSPORTATION

Surface Transportation Board

[Section 5a Application No. 9 (Amendment No. 8)]

Application of the National Motor Bus Traffic Association, Inc., for Extended Approval of its Conformed Agreement

AGENCY: Surface Transportation Board.

ACTION: Request for comments.

SUMMARY: The Surface Transportation Board (Board) seeks comments on whether the Board should approve the application of the National Motor Bus Traffic Association, Inc. (NBTA), for extended approval of its rate bureau agreement.

DATES: Opening comments are due March 13, 2000. Reply comments are due March 27, 2000.

ADDRESSES: Send an original and 10 copies of comments and replies, referring to “Sec. 5a Application No. 9 (Amendment No. 8),” to: Surface Transportation Board, Office of the Secretary, Case Control Unit, 1925 K Street, N.W., Washington, DC 20423.

FOR FURTHER INFORMATION CONTACT: Joseph H. Dettmar, (202) 565-1600. [TDD for the hearing impaired: 1-800-877-8339.]

SUPPLEMENTARY INFORMATION: In our decision and notice issued today in EC-MAC Motor Carriers Service Association, Inc., et al., Section 5a Application No. 118 (Sub-No. 2), et al. (EC-MAC) (which are available on the Board's website at “WWW.STB.DOT.GOV”), we expressed concern with the way in which motor freight carrier rate bureaus collectively set “benchmark” class rates, from which discount rates may be offered to many, but not all, shippers. We indicated our intent to approve the rate bureau agreements of the motor freight bureaus only if class rates were reduced to market-based levels, and we requested public input on ways in which to achieve our objective.

NBTA has asked to have its agreement approved. It states that, while it does file tariffs on behalf of its member carriers, its members express their rates in dollars and cents, and not as discounts off of collectively-established bureau rates. Thus, it states that the issues over which we expressed concern in the EC-MAC proceeding should not be factors in our consideration of its agreement.

We tend to agree with NBTA that the issues about which we raised concerns in EC-MAC should not be of concern here. Nonetheless, any person who believes that we should initiate further proceedings of the sort that we are pursuing in EC-MAC, or that the agreement should be disapproved or conditioned for other reasons may file comments.

Decided: February 4, 2000.
By the Board, Chairman Morgan, Vice Chairman Burkes, and Commissioner Clyburn.
Vernon A. Williams,
Secretary,

[FR Doc. 00-3137 Filed 2-10-00; 8:45 am]

BILLING CODE 4915-00-P